INTERNATIONAL TRADE COMMISSION

[Inv. No. 337-TA-467]

Certain Canary Yellow Self-Stick Repositionable Note Products; Notice of Commission Determination Not to Review an Initial Determination Terminating the Investigation as to Print-Inform GMBH & Co. on the Basis of a Settlement Agreement, and Terminating the Investigation in its Entirety

AGENCY: International Trade Commission.

ACTION: Notice.

SUMMARY: Notice is hereby given that the U.S. International Trade Commission has determined not to review the presiding administrative law judge's (“ALJ's”) initial determination (“ID”) terminating the above-captioned investigation as to respondent Print-Inform GmbH & Co. (“Print-Inform”) on the basis of a settlement agreement. Inasmuch as Print-Inform is the last remaining respondent, its termination terminates the investigation in its entirety.

FOR FURTHER INFORMATION CONTACT: Michael Diehl, Esq., Office of the General Counsel, U.S. International Trade Commission, 500 E Street, SW., Washington, DC 20436, telephone 202-205-3095. General information concerning the Commission may also be obtained by accessing its Internet server (http://www.usitc.gov). Hearing-impaired persons are advised that information on this matter can be obtained by contacting the Commission's TDD terminal on 202-205-1810. The public record for this investigation may be viewed on the Commission's electronic docket (EDIS-ON-LINE) at http://dockets.usitc.gov/eol/public.

SUPPLEMENTARY INFORMATION: The Commission instituted this investigation on January 7, 2002, based on a complaint filed by Minnesota Mining and Manufacturing Company (now known as 3M Company) of St. Paul, Minnesota (“3M”). The complaint named Janel, S.A. de C.V. of the Distrito Federal, Mexico (“Janel”) and Print-Inform of Kaltenkirchen, Germany as respondents. The complaint alleged that the respondents violated section 337 of the Tariff Act of 1930 by importing into the United States, selling for importation, and/or selling within the United States after importation certain canary yellow self-stick repositionable note products that infringe U.S. Trademark Registration No. 2,390,667. On August 27, 2002, the Commission determined not to review an ID terminating the investigation as to Janel based on a settlement agreement. On or before September 4, 2002, 3M entered into a settlement agreement with Print-Inform as well. On September 25, 2002, 3M filed a motion to terminate the investigation as to Print-Inform. The Commission investigative attorney supported the motion. On October 18, 2002, the ALJ issued an ID (Order No. 12) granting the motion to termination the investigation as to Print-Inform. The ID also terminated the investigation in its entirety. No petitions for review of the ID were filed. The authority for the Commission's action is contained in section 337 of the Tariff Act of 1930, as amended (19 U.S.C. 1337), and in § 210.42 of the Commission's rules of practice and procedure (19 CFR 210.42). Copies of the public version of the ID, and all other nonconfidential documents filed in connection with this investigation, are or will be available for inspection during official business hours (8:45 a.m. to 5:15 p.m.) in the Office of the Secretary, U.S. International Trade Commission, 500 E Street, SW., Washington, DC 20436, telephone 202-205-2000.

By order of the Commission.
Issued: November 15, 2002.
Marilyn R. Abbott,
Secretary to the Commission.

[FR Doc. 02-29569 Filed 11-20-02; 8:45 am]

BILLING CODE 7020-02-P